NATIONAL CREDIT UNION ADMINISTRATION

Agency Information Collection Activities: Amended Submission to OMB for Reinstatement, With Change, of a Previously Approved Collection

AGENCY: National Credit Union Administration (NCUA).

ACTION: Technical correction.

SUMMARY: NCUA is publishing this technical correction to correct an inadvertent burden calculation which appeared in prior notices published in the Federal Register and was also submitted to OMB for its Truth in Savings Act (TISA) information collection (OMB control number 3133-0134). The initial burden estimate is being reduced as described in question 12 of the TISA Supporting Statement, which also reduces the estimated annual burden hours. The erroneous calculation listed the estimated total annual burden hours at 43,456,180,359 hours. The amended submission, which contains the corrected burden hours, lists 9,899,116 estimated total annual burden hours (which combines the one-time annual burden of 2,759,929 hours and the continuing annual burden of 7,139,187 hours). NCUA calculated the burden hours using total estimated number of credit union members nationwide. This notice is published to notify the public of the correct burden calculations and to inform the public that, on November 7, 2013, NCUA amended its original submission to OMB with the corrected burden calculations shown in this notice below. Amended changes will be reflected at www.reginfo.gov after the collection has concluded the approval process.

12. Burden estimate: ¹

¹ In the absence of supplementary information in determining the reporting burden for credit unions, NCUA has adopted the same estimated time per response as the Federal Reserve System. The supporting information associated with Regulation DD (OMB Control No: 7100-0271) is published at 76 FR 29242 (May 20, 2011).

The estimated number of respondents includes the total number of credit unions based on the NCUA year-end call report data for 2012. The Credit Union National Association, a national trade association, contributed to information regarding privately-insured credit unions. The analysis assumes that all credit unions will collect the TISA information and, therefore, be subject to this rule.

Number of credit unions: 6,859.

Federal credit unions: 4,211.

State chartered, federally-insured credit unions: 2,507.

State chartered, privately-insured credit unions: 141.

Number of credit unions with assets under $10 million: 2,339.

| Responses subject to requirement | Estimated time per response | Annual reporting burden (hours)
One-time burden ²
Notice to existing accountholders ³ | 95,032,999 | 1.5 minutes | 2,375,825
Initial training and education of staff ⁴ | 13,718 | 16 hours | 219,488
System updates ⁵ | 6,859 | 8 hours | 54,872
Advertising updates ⁶ | 6,859 | 16 hours | 109,744
One-Time Annual Burden |  |  | 2,759,929
Continuing Annual Burden
New account/requested disclosures ⁷ | 1,988,244 | 5 minutes | 165,687
Term account renewal notices ⁸ | 7,112,023 | 1 minute | 118,534
Change-in-term notices ⁹ | 23,758,250 | 1 minute | 395,971
Periodic Statements ¹⁰ | 380,131,996 | 1 minute | 6,335,533
Advertising ¹¹ | 6,859 | 10 hours | 68,590
Continuing Training ¹² | 13,718 | 4 hours | 54,872
Continuing Annual Burden |  |  | 7,139,187

² The one-time burden would only apply to a newly chartered credit union. Pre-existing credit unions will only have a continuing annual compliance burden.

³ The one-time burden was estimated using the estimated total number of credit union members, 95,032,999 million as of December 31, 2012.

⁴ This estimate is based on the assumption that at least 2 employees, a manager and teller, would be trained for every credit union. It is also estimated that training will require an average of 16 hours.

⁵ Many credit unions use automated technology, i.e. computer software, to aid in their compliance with TISA and the regulations. NCUA estimates that credit unions will need approximately one business day, eight hours, for necessary system maintenance.

⁶ Credit unions must monitor their advertising materials to ensure compliance with TISA and Part 707. NCUA estimates it takes two business days, 16 hours, for these compliance reviews.

⁷ This estimate is based on the difference between the total number of accounts at year-end 2011 and 2012. The difference is an estimate of the total number of new accounts.

⁸ The total number of term share accounts, share certificates, was broken out by the dollar amount proportions of various maturing categories of certificates. Information on the dollar amounts placed in certificates with maturities less than one year, one to three years, and greater than three years is available. The ratio of each dollar volume category was applied to the total number of term share accounts in the less than one year category were assumed to have an annual disclosure requirement. One-half of the number of term share accounts in the one to three year category was assumed to have an annual disclosure requirement. Twenty percent of certificates in the over three years category were assumed to have an annual disclosure requirement.

⁹ Twenty-five percent of the total number of existing accountholders is assumed to require notification, on an annual basis, of a change-in-terms notice. The estimate is conservative and assumes very stable market interest rates for fixed-rate accounts.

¹⁰ The figure for periodic statements was estimated by assuming that on average, members receive quarterly statements.

¹¹ While the burden of advertising is difficult to assess, NCUA believes that a minimum of 10 hours per credit union per year is a conservative estimate of the increased advertising compliance burden required due to the Truth in Savings rule.

¹² NCUA estimates that credit unions will need to perform continuous training for new employees and to refresh existing employees on TISA and Part 707. Based on an average of two employees per year per credit union, NCUA has used the four hours of training per employee that it applies to continuing NCUA examiner training as the estimated an annual burden for credit unions.

By the National Credit Union Administration Board on November 18, 2013.
Gerard Poliquin,
Secretary of the Board.

[FR Doc. 2013-28038 Filed 11-21-13; 8:45 am]

BILLING CODE 7535-01-P